DEPARTMENT OF COMMERCE

Foreign-Trade Zones Board

[Order No. 1140]

Grant of Authority for Subzone Status; Tesoro Northwest Company (Oil Refinery), Anacortes, WA

Pursuant to its authority under the Foreign-Trade Zones Act of June 18, 1934, as amended (19 U.S.C. 81a-81u), the Foreign-Trade Zones Board (the Board) adopts the following Order:

Whereas, by an Act of Congress approved June 18, 1934, an Act “To provide for the establishment * * * of foreign-trade zones in ports of entry of the United States, to expedite and encourage foreign commerce, and for other purposes,” as amended (19 U.S.C. 81a-81u) (the Act), the Foreign-Trade Zones Board (the Board) is authorized to grant to qualified corporations the privilege of establishing foreign-trade zones in or adjacent to U.S. Customs ports of entry;

Whereas, the Board's regulations (15 CFR Part 400) provide for the establishment of special-purpose subzones when existing zone facilities cannot serve the specific use involved;

Whereas, an application from the Port of Tacoma, grantee of FTZ 86, for authority to establish special-purpose subzone status at the oil refinery complex of Tesoro Northwest Company in Anacortes, Washington, was filed by the Board on March 15, 2000, and notice inviting public comment was given in the Federal Register (FTZ Docket 10-2000, 65 FR 15305, 3/22/00); and,

Whereas, the Board adopts the findings and recommendations on the examiner's report, and finds that the requirements of the FTZ Act and Board's regulations would be satisfied, and that approval of the application would be in the public interest if approval is subject to the conditions listed below;

Now, Therefore, the Board hereby authorizes the establishment of a subzone (Subzone 86D) at the oil refinery complex of Tesoro Northwest Company, in Anacortes, Washington, at the location described in the application, subject to the FTZ Act and the Board's regulations, including § 400.28, and subject to the following conditions:

1. Foreign status (19 CFR §§ 146.41, 146.42) products consumed as fuel for the refinery shall be subject to the applicable duty rate.

2. Privileged foreign status (19 CFR § 146.41) shall be elected on all foreign merchandise admitted to the subzone, except that non-privileged foreign (NPF) status (19 CFR § 146.42) may be elected on refinery inputs covered under HTSUS Subheadings #2709.1000-#2710.00.1050, #2710.00.2500 and #2710.00.4510 which are used in the production of:

—Petrochemical feedstocks and refinery by-products (examiners report, Appendix “C”);

—Products for export; and

—Products eligible for entry under HTSUS #9808.00.30 and #9808.00.40 (U.S. Government purchases).

Signed at Washington, DC, this 8th day of January 2001.
Troy H. Cribb,
Assistant Secretary of Commerce for Import Administration, Alternate Chairman, Foreign-Trade Zones Board.

Appendix C

Standard Appendix for Oil Refinery Subzones ¹ Petrochemical Feedstocks/Refinery By-Products—NPF Status
| HTSUS No. | Duty rate
Benzene | 2707.10.00 | Free.
Toluene | 2707.20.00 | Free.
Xylenes | 2707.30.00 | Free.
Naphthalene | 2707.40.00 | Free.
Other Aromatic Hydrocarbon Mixtures | 2707.50.00 | Free.
Carbon Black Oil | 2707.99.50 2803.00.00 | Free. Free.
Distillates/Fuel Oils | 2710.00.05 2710.00.10 | 5.25¢/bbl. 10.5¢/bbl.
Kerosene | 2710.00.20 | 10.5¢/bbl.
Naphthas (except motor fuel & blendstocks) | 2710.00.25 | 10.5¢/bbl.
Mixtures of Hydrocarbons, not elsewhere specified | 2710.00.45 | 10.5¢/bbl.
Liquified Natural Gas | 2711.11.00 | Free.
Propane | 2711.12.00 | Free.
Butanes | 2711.13.00 | Free.
Ethylene, Propylene, Butylene, Butadiene | 2711.14.00 | Free.
Ethane, other Liquefied Petroleum Gases | 2711.19.00 | Free.
Natural Gas, gaseous | 2711.21.000 | Free.
Gaseous Propane, Butane, other Petroleum Gases | 2711.29.00 | Free.
Paraffin Waxes & Petroleum Jelly | 2712.10.00-2712.90.20 | Free.
Petroleum Coke and Asphalt | 2713.11.00-2713.90.00 2714.10.00-2715.00.00 | Free. Free.
Sulfur | 2802.00.00 2503.00.00 | Free. Free.
Sulfuric Acid | 2807.00.00 | Free.
Acyclic Hydrocarbons:
Saturated Ethane and Butane | 2901.10.10 | Free.
Unsaturated Ethylene, Propylene, Butylene | 2901.21.00-2901.23.00 | Free.
Buta-1-3-diene | 2901.24.10 | Free.
Dicyclopentadene | 2902.19.0010 | Free.
Cyclic Hydrocarbons: Benzene, Toluene and Xylenes | 2902.20.00-2902.44.00 | Free.
Cumene | 2902.70.00 | Free.
Pseudocumene | 2902.90.10 | Free.
¹ This is a comprehensive list of finished products that may be produced with NPF inputs at the subzones designated in Appendix A (Fed. Reg. Notice of 9/2/99, 64 FR 48140) based on previous FTZ Board authorizations for oil refineries.

[FR Doc. 01-1684 Filed 1-19-01; 8:45 am]

BILLING CODE 3510-DS-M